DEPARTMENT OF COMMERCE

National Oceanic and Atmospheric Administration

RIN 0648-XF360

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Coastal Pelagic Species (CPS) Subcommittee of the Scientific and Statistical Committee (SSC) will hold a meeting via webinar to review the 2017 Pacific mackerel biomass projection estimate. The meeting is open to the public.

DATES: The webinar meeting will be held Monday, May 1, 2017, from 1 p.m. to 5 p.m., or until business for the day has been completed.

ADDRESSES: The meeting will be held via webinar. A public listening station is available at the Pacific Council office (address below). To attend the webinar, visit: http://www.gotomeeting.com/online/webinar/join-webinar. Enter the Webinar ID, which is 344-427-787, and your name and email address (required). After logging into the webinar, dial this TOLL number 1+ (562) 247-8422 (not a toll-free number), then enter the Attendee phone audio access code: 235-460-983, then enter your audio phone pin (shown after joining the webinar). NOTE: We have disabled Mic/Speakers on GoToMeeting as an option and require all participants to use a telephone or cell phone to participate. You may send an email to Mr. Kris Kleinschmidt at kris.kleinschmidt@noaa.gov or contact him at (503) 820-2280, extension 411 for technical assistance.

Council address: Pacific Fishery Management Council, 7700 NE Ambassador Place, Suite 101, Portland, OR 97220.

FOR FURTHER INFORMATION CONTACT: Kerry Griffin, Pacific Council; telephone: (503) 820-2409.

SUPPLEMENTARY INFORMATION: The purpose of the meeting is to conduct a technical review of the 2017 biomass projection estimate for Pacific mackerel. At its June 2017 meeting, the Pacific Council will use the biomass estimate for use in setting harvest specifications and management measures for two consecutive fishing years, July 1, 2017 through June 30, 2019.

Special Accommodations

This meeting is physically accessible to people with disabilities. Requests for sign language interpretation or other auxiliary aids should be directed to Mr. Kris Kleinschmidt (503) 820-2280 at least 10 days prior to the meeting date.

Dated: April 11, 2017.
Tracey L. Thompson,
Acting Deputy Director, Office of Sustainable Fisheries, National Marine Fisheries Service.

[FR Doc. 2017-07584 Filed 4-13-17; 8:45 am]

BILLING CODE 3510-22-P